DEPARTMENT OF VETERANS AFFAIRS

Advisory Committee on Cemeteries and Memorials, Notice of Meeting

The Department of Veterans Affairs (VA) gives notice under Federal Advisory Committee Act, 38 U.S.C. App. 2 that a meeting of the Advisory Committee on Cemeteries and Memorials will be held on June 22-23, 2016, in the National Cemetery Administration's training room 104 at 1100 First Street NE., Washington, DC 20002, from 8:30 a.m. to 4:30 p.m. The meeting is open to the public.

The purpose of the Committee is to advise the Secretary of Veterans Affairs on the administration of national cemeteries, soldiers' lots and plots, the selection of new national cemetery sites, the erection of appropriate memorials, and the adequacy of Federal burial benefits.

On June 22, the Committee will receive mandatory training from the Office of General Counsel in the morning and updates on VA and National Cemetery Administration (NCA) issues by appropriate VA staff. On the morning of June 23, the Committee will receive background information on NCA projects and updates from ex-officio members.

Time will be allocated on both June 22 and June 23 to receive public comments at 1:00 p.m. Public comments are limited to three minutes each. Individuals wishing to make oral statements before the Committee will be accommodated on a first-come, first-served basis. Individuals who speak are invited to submit 1-2 page summaries of their comments at the time of the meeting for inclusion in the official meeting record.

Members of the public may direct questions or submit written statements for review by the Committee in advance of the meeting to Ms. Robin Cooper, Designated Federal Officer, VA, NCA (43A2), 1100 1st Street NE., Washington, DC 20002, or via email at Robin.Cooper@va.gov. In the public's communications with the Committee, the writers must identify themselves and state the organizations, associations, or persons they represent. Because the meeting will be in a Government building, anyone attending must be prepared to show a valid photo I.D. Please allow 15 minutes before the meeting begins for this process. Any member of the public wishing to attend the meeting should contact Ms. Cooper at (202) 632-8035 or Robin.Cooper@va.gov.

Dated: May 11, 2016.
Jelessa Burney,
Federal Advisory Committee Management Officer.

[FR Doc. 2016-11506 Filed 5-16-16; 8:45 am]

BILLING CODE 8320-01-P